NUCLEAR REGULATORY COMMISSION

[Docket No. 50-213]

Connecticut Yankee Atomic Power Company, Haddam Neck Plant; Environmental Assessment and Finding of No Significant Impact

AGENCY: Nuclear Regulatory Commission.

ACTION: Notice of availability.

FOR FURTHER INFORMATION CONTACT: Theodore B. Smith, Decommissioning Directorate, Division of Waste Management and Environmental Protection, Office of Nuclear Material Safety and Safeguards, U.S. Nuclear Regulatory Commission, Washington, DC 20555-0001. Telephone: (301) 415-6721; fax number: (301) 415-5398; e-mail: tbs1@nrc.gov.

SUPPLEMENTARY INFORMATION: The U.S. Nuclear Regulatory Commission (NRC) is considering granting a partial exemption from the Recordkeeping requirements of Title 10 of the Code of Federal Regulations (10 CFR) Part 50, Appendix A Criterion 1, 10 CFR Part 50, Appendix B Section XVII, and 10 CFR 50.59(d)(3), for the Haddam Neck Nuclear Plant (HNP), East Hampton, CT, as requested by Connecticut Yankee Atomic Power Company (CY) on February 16, 2005. An environmental assessment was performed by the NRC staff in support of its review of the exemption request.

I. Introduction

CY is the licensee and holder of Facility Operating License No. DPR-61 for the HNP, a permanently shutdown decommissioning nuclear power plant. Although permanently shutdown, this facility is still subject to all rules, and orders of the NRC.

On December 5, 1996, CY notified NRC that operations had permanently ceased and that all fuel had been permanently removed from the reactor. On July 7, 2000, CY submitted its License Termination Plan, which the NRC approved on November 25, 2002. CY began actively decommissioning HNP in April 1999, through a contract with Bechtel Power Corporation. On March 26, 2005, CY completed transfer of all spent nuclear fuel to its Independent Spent Fuel Storage Installation.

II. Environmental Assessment Summary

Identification of Proposed Action

CY, in accordance with 10 CFR 50.12, “Specific Exemptions,” has requested the following exemptions, to the extent necessary, from the record retention requirements of:

(1) 10 CFR part 50, Appendix A Criterion 1 which requires certain records be retained “through the life of the unit”;

(2) 10 CFR part 50, Appendix B Criterion XVII which requires certain records be retained consistent with regulatory requirements for a duration established by the licensee; and

(3) 10 CFR 50.59(d)(3) which requires certain records be maintained until “Termination of a license issued pursuant to” Part 50.

Instead, CY proposes the following: 1) for Structures, Systems, and Components (SSCs) associated with safe power generation, eliminate records when the nuclear power unit and associated systems no longer exist, or 2) for SSCs associated with safe storage of fuel in the spent fuel pool, eliminate records when spent nuclear fuel has been completely transferred from the spent fuel pool and the spent fuel pool building is ready for demolition.

Need for Proposed Action

The requested exemption and application of the exemption will eliminate the requirement to maintain certain records, when they are no longer necessary due to the permanently shutdown status of the facility, and will thereby reduce the financial burden on ratepayers associated with the storage of a large volume of hardcopy records.

The Affected Environment and Environmental Impacts

The proposed action is purely administrative in nature and will not significantly increase the probability or consequences of accidents. No changes are being made in the types of effluent that may be released offsite and there is no significant increase in occupational or public radiation exposure. Therefore, there are no significant radiological environmental impacts associated with the proposed action.

With regard to potential non-radiological impacts, the proposed action does not have a potential to affect any historic sites. It does not affect non-radiological plant effluent and it has no other environmental impact. Therefore, there are no significant non-radiological environmental impacts associated with the proposed action.

Accordingly, the NRC concludes that the proposed action will have no significant effect on the environment.

Environmental Impacts of the Alternatives to the Proposed Action

As an alternative to the proposed action, the staff considered denial of the proposed action (i.e., the “no-action” alternative). Under this alternative CY would continue to store the records in question until license termination which would result in no change in current environmental impacts. The environmental impacts of the proposed action and the alternative action are similar.

Agencies and Persons Contacted

None.

III. Finding of No Significant Impact

Based on this review, the NRC staff has concluded that there are no significant impacts on the quality of the human environment. Accordingly, the staff had determined that preparation of an Environmental Impact Statement is not warranted, and a Finding of No Significant Impact is appropriate.

IV. Further Information

For further details with respect to the proposed action, see the licensee's letter dated February 16, 2005 (Agencywide Documents Access and Management System (ADAMS) Accession No. ML050550025). Publically available records will be accessible electronically from the ADAMS Public Electronic Reading Room on the Internet at the NRC Web site, http://www.nrc.gov/NRC/reading-rm/adams.html. Persons who do not have access to ADAMS or who encounter problems in accessing the documents located in ADAMS, should contact the NRC's Public Document Room (PDR) Reference staff at 1-800-397-4209, 301-415-4737, or by e-mail to pdr@nrc.gov.

These documents may also be viewed electronically on the public computers located at the NRC's PDR, O1 F21, One White Flint, 11555 Rockville Pike, Rockville, MD 20852. The PDR reproduction contractor will copy documents for a fee.

Dated at Rockville, Maryland, this 16th day of August, 2005.
For the Nuclear Regulatory Commission.
Daniel M. Gillen,
Deputy Director, Decommissioning Directorate, Division of Waste Management and Environmental Protection, Office of Nuclear Material Safety and Safeguards.

[FR Doc. E5-4852 Filed 9-6-05; 8:45 am]

BILLING CODE 7590-01-P